DEPARTMENT OF COMMERCE

National Oceanic and Atmospheric Administration

[RTID 0648-XB267]

South Atlantic Fishery Management Council; Public Meeting

AGENCY: National Marine Fisheries Service (NMFS), National Oceanic and Atmospheric Administration (NOAA), Commerce.

ACTION: Notice of the South Atlantic Fishery Management Council's (Council) joint Advisory Panel (AP) meeting.

SUMMARY: The South Atlantic Fishery Management Council (Council) will hold a meeting with chairs, vice chairs, and other representatives of their Dolphin Wahoo, Mackerel Cobia, Snapper Grouper, and Spiny Lobster APs to discuss the draft Allocation Decision Tree Blueprint.

DATES: The meeting will be held via webinar on August 17, 2021, from 9 a.m. until 12 p.m.

ADDRESSES:

Council address: South Atlantic Fishery Management Council, 4055 Faber Place Drive, Suite 201, N Charleston, SC 29405.

Meeting Address: The meeting will be held via webinar. The webinar is open to members of the public. Registration is required. Webinar registration, an online public comment form, and briefing book materials will be available two weeks prior to the meeting at: http://safmc.net/safmc-meetings/current-advisory-panel-meetings/.

FOR FURTHER INFORMATION CONTACT: Christina Wiegand, Fishery Social Scientist, SAFMC; phone: (843) 571-4366 or toll free: (866) SAFMC-10; fax: (843) 769-4520; email: kim.iverson@safmc.net.

SUPPLEMENTARY INFORMATION:

The AP members will meet via webinar. The AP members will review the draft Allocation Decision Tree Blueprint, which aims to help the Council incorporate other sources of information, in addition to landings, when making sector allocations. The Blueprint proposes an objective and organized approach to allocations that helps determine salient issues to consider when discussing sector allocations. The AP will provide recommendations for Council consideration as appropriate.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: July 26, 2021.
Tracey L. Thompson,
Acting Deputy Director, Office of Sustainable Fisheries, National Marine Fisheries Service.

[FR Doc. 2021-16186 Filed 7-28-21; 8:45 am]

BILLING CODE 3510-22-P